NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities will hold thirty-one meetings of the Humanities Panel, a federal advisory committee, during April 2020. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

ADDRESSES: The meetings will be held in person or via videoconference originating at Constitution Center, 400 7th Street SW, Washington, DC 20506, as indicated below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. DATE: April 1, 2020

This video meeting will discuss applications on the topic of Archaeology, for the Digital Humanities Advancement Grants program, submitted to the Office of Digital Humanities.

2. DATE: April 1, 2020

This meeting will discuss applications on the topic of Local History, for the Sustaining Cultural Heritage Collections grant program, submitted to the Division of Preservation and Access.

3. DATE: April 1, 2020

This video meeting will discuss applications for Landmarks of American History and Culture Workshops, submitted to the Division of Education Programs.

4. DATE: April 1, 2020

This video meeting will discuss applications on the topics of Philosophy, Social Sciences, and Religion, for the Collaborative Research grant program, submitted to the Division of Research Programs.

5. DATE: April 2, 2020

This video meeting will discuss applications for Landmarks of American History and Culture Workshops, submitted to the Division of Education Programs.

6. DATE: April 2, 2020

This video meeting will discuss applications on the topics of Anthropology and Archaeology, for the Collaborative Research grant program, submitted to the Division of Research Programs.

7. DATE: April 2, 2020

This video meeting will discuss applications on the topics of Libraries, Archives, and Special Collections, for the Sustaining Cultural Heritage Collections grant program, submitted to the Division of Preservation and Access.

8. DATE: April 3, 2020

This video meeting will discuss applications on the topics of Philosophy, Religion, and Social Sciences, for the Collaborative Research grant program, submitted to the Division of Research Programs.

9. DATE: April 3, 2020

This video meeting will discuss applications on the topics of Philosophy and Religion, for the Scholarly Editions and Translations grant program, submitted to the Division of Research Programs.

10. DATE: April 3, 2020

This video meeting will discuss applications submitted to the Sustaining Cultural Heritage Collections grant program, submitted to the Division of Preservation and Access.

11. DATE: April 6, 2020

This video meeting will discuss applications on the topics of History and Literature, for the Scholarly Editions and Translations grant program, submitted to the Division of Research Programs.

12. DATE: April 7, 2020

This video meeting will discuss applications on the topics of U.S. and World History, for the Collaborative Research grant program, submitted to the Division of Research Programs.

13. DATE: April 7, 2020

This video meeting will discuss applications on the topic of Digital Collections, for the Digital Humanities Advancement Grants program, submitted to the Office of Digital Humanities.

14. DATE: April 8, 2020

This video meeting will discuss applications on the topics of Pedagogy and Community Engagement, for the Digital Humanities Advancement Grants program, submitted to the Office of Digital Humanities.

15. DATE: April 8, 2020

This video meeting will discuss applications on the topics of History and Studies of Asia and Europe, for the Collaborative Research grant program, submitted to the Division of Research Programs.

16. DATE: April 9, 2020

This video meeting will discuss applications on the topics of Languages and Linguistics, for the Digital Humanities Advancement Grants program, submitted to the Office of Digital Humanities.

17. DATE: April 10, 2020

This video meeting will discuss applications on the topics of Asia, Africa, and the Middle East, for the Scholarly Editions and Translations grant program, submitted to the Division of Research Programs.

18. DATE: April 16, 2020

This meeting will discuss applications for Summer Seminars and Institutes for Higher Education Faculty, submitted to the Division of Education Programs.

19. DATE: April 17, 2020

This meeting will discuss applications for Summer Seminars and Institutes for K-12 Educators, submitted to the Division of Education Programs.

20. DATE: April 20, 2020

This video meeting will discuss applications for Summer Seminars and Institutes for K-12 Educators, submitted to the Division of Education Programs.

21. DATE: April 20, 2020

This video meeting will discuss applications on the topic of History, for Media Projects: Production Grants, submitted to the Division of Public Programs.

22. DATE: April 21, 2020

This video meeting will discuss applications for Summer Seminars and Institutes for K-12 Educators, submitted to the Division of Education Programs.

23. DATE: April 21, 2020

This video meeting will discuss applications on the topic of Cultural History, for Media Projects: Production Grants, submitted to the Division of Public Programs.

24. DATE: April 22, 2020

This meeting will discuss applications for Summer Seminars and Institutes for Higher Education Faculty, submitted to the Division of Education Programs.

25. DATE: April 23, 2020

This meeting will discuss applications for Summer Seminars and Institutes for Higher Education Faculty, submitted to the Division of Education Programs.

26. DATE: April 23, 2020

This video meeting will discuss the topic of Podcasts, for Media Projects: Production Grants, submitted to the Division of Public Programs.

27. DATE: April 23, 2020

This video meeting will discuss the topic of Scholarly Communications, for the Digital Humanities Advancement Grants program, submitted to the Office of Digital Humanities.

28. DATE: April 24, 2020

This video meeting will discuss applications for the Public Humanities Projects: Humanities Discussions Grants, submitted to the Division of Public Programs.

29. DATE: April 24, 2020

This meeting will discuss applications for Summer Seminars and Institutes for Higher Education Faculty, submitted to the Division of Education Programs.

30. DATE: April 27, 2020

This video meeting will discuss applications on the topic of Machine Learning, for the Digital Humanities Advancement Grants program, submitted to the Office of Digital Humanities.

31. DATE: April 28, 2020

This video meeting will discuss applications on the topic Art History, for the Public Humanities Projects: Exhibitions (Implementation) grant program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: March 11, 2020.
Elizabeth Voyatzis,
Committee Management Officer, National Endowment for the Humanities.

[FR Doc. 2020-05378 Filed 3-16-20; 8:45 am]

BILLING CODE 7536-01-P